DEPARTMENT OF ENERGY

Federal Energy Regulatory Commission

[Docket No. CP98-150-012]

Millennium Pipeline Company, L.L.C.; Notice of Petition To Amend

November 19, 2008.

Take notice that on November 17, 2008, Millennium Pipeline Company, L.L.C. (Millennium), One Blue Hill Plaza, Seventh Floor, P.O. Box 1565, Pearl River, New York 10965, filed in Docket No. CP98-150-012, a petition to amend the certificate of public convenience and necessity issued on December 21, 2006 in Docket No. CP98-150-006, et al. It is stated that Millennium seeks authority to amend its certificate authorization to allow it to implement a contingency plan to acquire, construct, and operate additional facilities if it is unable to complete the horizontal directional drill at the East Branch of the Delaware River or at Wheeler Creek in time to make its facilities available for service prior to December 31, 2008. Specifically, Millennium requests authorization to (1) decrease the diameter of the pipeline facilities to be constructed at Wheeler Creek from 30 inches to 24 inches, and permanently provide service utilizing the reduced diameter facilities; (2) delay completion of the horizontal directional drill (HDD) at the East Branch of the Delaware River until no later than September 30, 2009; (3) acquire from Columbia two 10-inch diameter pipelines and a small segment of one 12-inch diameter pipeline located to the west of the two 10-inch lines (Crossing Facilities) which Columbia is authorized to abandon in place; (4) construct limited facilities, including approximately 850 feet of 12-inch pipeline, cathodic protection equipment and overpressure protection facilities, necessary to interconnect Columbia's Crossing Facilities with Millennium's newly constructed 30-inch diameter mainline at the East Branch of the Delaware River; and (5) provide service utilizing the Crossing Facilities until such time as Millennium completes the HDD or implements an approved alternative at the East Branch of the Delaware River. It is stated that it the requested authorizations would only be implemented if Millennium determines that either of the HDDs would not be completed in time to permit Millennium to make its system available for service prior to December 31, 2008.

It is also stated that if Millennium is able to complete one HDD, but not the other HDD, Millennium would only implement the authorization that applies to the HDD it is unable to complete, all as more fully set forth in the petition to amend which is on file with the Commission and open to public inspection. This filing is available for review at the Commission in the Public Reference Room or may be viewed on the Commission's Web site at http://www.ferc.gov using the “eLibrary” link. Enter the docket number excluding the last three digits in the docket number field to access the document. For assistance, contact FERC Online Support at FERCOnlineSupport@ferc.gov or toll free at (866) 208-3676; or for TTY, contact (202) 502-8659.

Any initial questions regarding Millennium's proposal in this petition should be directed to counsel for Millennium, Daniel F. Collins or Letitia W. McKoy, Fulbright & Jaworski, L.L.P., 801 Pennsylvania Avenue, NW., Washington, DC 20004; telephone (202) 662-4586 (Daniel) or (202) 662-4668 (Letitia), fax (202) 662-4643.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission encourages electronic submission of protests and interventions in lieu of paper using the “eFiling” link at http://www.ferc.gov. Persons unable to file electronically should submit the original and 14 copies of the protest or intervention to the Federal Energy Regulatory Commission, 888 First Street, NE., Washington, DC 20426.

Comment Date: November 26, 2008.

Kimberly D. Bose,
Secretary.

[FR Doc. E8-27918 Filed 11-24-08; 8:45 am]

BILLING CODE 6717-01-P